ENVIRONMENTAL PROTECTION AGENCY

[EPA-HQ-OPPT-2003-0004; FRL-9995-54]

Access to Confidential Business Information by SRA International Inc.

AGENCY: Environmental Protection Agency (EPA).

ACTION: Notice.

SUMMARY: EPA has authorized its contractor SRA International Inc. (SRA) of Chantilly, VA, to access information which has been submitted to EPA under all sections of the Toxic Substances Control Act (TSCA). Some of the information may be claimed or determined to be Confidential Business Information (CBI).

DATES: Access to the confidential data will occur no sooner than July 31, 2019.

FOR FURTHER INFORMATION CONTACT: For technical information contact: Scott M. Sherlock, Environmental Assistance Division (7408M), Office of Pollution Prevention and Toxics, Environmental Protection Agency, 1200 Pennsylvania Ave. NW, Washington, DC 20460-0001; telephone number: (202) 564-8257; email address: sherlock.scott@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004, is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the Agency taking?

Under EPA contract number GSQ0017AJ0037, solicitation number GSC-QFOB-17-33061, contractor SRA of 15036 Conference Drive, Chantilly, VA will assist the Office of Pollution Prevention and Toxics (OPPT) by simplifying the operation and management of infrastructure services by obtaining support from a single contractor. The services consist of data center management, application hosting, application deployment, maintenance, geospatial services support, network security, cyber security, cloud computing, Continuity of Operations (COOP) support, Enterprise Identity and Access Management (EIAM) and Active Directory (AD). Combining the support, standardization and communication of the Office of Information Technology Operations' (OITO) infrastructure services will add significant value to the government.

In accordance with 40 CFR 2.306(j), EPA has determined that under EPA contract number GSQ0017AJ0037, solicitation number GSC-QFOB-17-33061, SRA will require access to CBI submitted to EPA under all sections of TSCA. EPA has determined that SRA will need access to TSCA CBI submitted to EPA under all sections of TSCA to perform successfully the duties specified under the contract. SRA's personnel will be given access to information claimed or determined to be CBI information submitted to EPA under all sections of TSCA.

EPA is issuing this notice to inform all submitters of information under all sections of TSCA that EPA will provide SRA access to these CBI materials on a need-to-know basis only. All access to TSCA CBI under this contract will take place at EPA Headquarters and RTP, NC, in accordance with EPA's TSCA CBI Protection Manual.

Access to TSCA data, including CBI, will continue until March 28, 2022. If the contract is extended, this access will also continue for the duration of the extended contract without further notice.

SRA's personnel will be required to sign nondisclosure agreements and will be briefed on specific security procedures for TSCA CBI.

Authority: 15 U.S.C. 2601 et seq.

Pamela Myrick,
Director, Information Management Division, Office of Pollution Prevention and Toxics.

[FR Doc. 2019-15681 Filed 7-23-19; 8:45 am]

BILLING CODE 6560-50-P